DEPARTMENT OF TRANSPORTATION

Federal Aviation Administration

14 CFR Part 39

[Docket No. 2002-CE-23-AD]

RIN 2120-AA64

Airworthiness Directives; Cessna Aircraft Company Models 208 and 208B Airplanes

AGENCY: Federal Aviation Administration, DOT.

ACTION: Notice of proposed rulemaking (NPRM).

SUMMARY: This document proposes to revise Airworthiness Directive (AD) 2002-22-17, which currently requires you to repetitively inspect the inboard forward flap bellcranks for cracks and eventually replace these bellcranks on all Cessna Aircraft Company (Cessna) Models 208 and 208B airplanes. AD 2002-22-17 resulted from Cessna re-evaluating the bellcrank life limit analysis and determining that the original estimate is too high. Since FAA issued AD 2002-22-17, Cessna has designed a new flap bellcrank with a life limit of 40,000 landings (instead of 7,000 landings). This proposed AD would retain the requirement that you repetitively inspect the inboard forward flap bellcranks for cracks and eventually replace these bellcranks and would provide the option of installing the new design flap bellcrank to increase the life limits and terminate the repetitive inspections. The actions specified by this proposed AD are intended to detect, correct, and prevent future cracks in the bellcrank, which could result in failure of this part. Such failure could lead to damage to the flap system and surrounding structure and result in reduced or loss of control of the airplane.

DATES: The Federal Aviation Administration (FAA) must receive any comments on this proposed rule on or before October 6, 2003.

ADDRESSES: Submit comments to FAA, Central Region, Office of the Regional Counsel, Attention: Rules Docket No. 2002-CE-23-AD, 901 Locust, Room 506, Kansas City, Missouri 64106. You may view any comments at this location between 8 a.m. and 4 p.m., Monday through Friday, except Federal holidays. You may also send comments electronically to the following address: 9-ACE-7-Docket@faa.gov. Comments sent electronically must contain “Docket No. 2002-CE-23-AD” in the subject line. If you send comments electronically as attached electronic files, the files must be formatted in Microsoft Word 97 for Windows or ASCII text.

You may get service information that applies to this proposed AD from Cessna Aircraft Company, Product Support, PO Box 7706, Wichita, Kansas 67277; telephone: (316) 517-5800; facsimile: (316) 942-9006. You may also view this information at the Rules Docket at the address above.

FOR FURTHER INFORMATION CONTACT: Paul Nguyen, Aerospace Engineer, FAA, Wichita Aircraft Certification Office ACO, 1801 Airport Road, Room 100, Wichita, Kansas 67209; telephone: 316-946-4125; facsimile: 816-946-4407.

SUPPLEMENTARY INFORMATION:

Comments Invited

How do I comment on this proposed AD? The FAA invites comments on this proposed rule. You may submit whatever written data, views, or arguments you choose. You need to include the proposed rule's docket number and submit your comments to the address specified under the caption ADDRESSES. We will consider all comments received on or before the closing date. We may amend this proposed rule in light of comments received. Factual information that supports your ideas and suggestions is extremely helpful in evaluating the effectiveness of this proposed AD action and determining whether we need to take additional rulemaking action.

Are there any specific portions of this proposed AD I should pay attention to? The FAA specifically invites comments on the overall regulatory, economic, environmental, and energy aspects of this proposed rule that might suggest a need to modify the rule. You may view all comments we receive before and after the closing date of the rule in the Rules Docket. We will file a report in the Rules Docket that summarizes each contact we have with the public that concerns the substantive parts of this proposed AD.

How can I be sure FAA receives my comment? If you want FAA to acknowledge the receipt of your mailed comments, you must include a self-addressed, stamped postcard. On the postcard, write “Comments to Docket No. 2002-CE-23-AD.” We will date stamp and mail the postcard back to you.

Discussion

Has FAA taken any action to this point? Ten cracked bellcrank incidents on Cessna Models 208 and 208B airplanes caused us to issue AD 2002-22-17, Amendment 39-12944 (67 FR 68508, November 12, 2002). AD 2002-22-17 currently requires the following on Cessna Models 208 and 208B airplanes:

—Inspecting, using eddy current inspection, the inboard forward flap bellcrank for cracks; and

—Replacing the inboard forward flap bellcrank.

What has happened since AD 2002-22-17 to initiate this proposed action? Since we issued AD 2002-22-17, Cessna has designed a new flap bellcrank, part number (P/N) 2622311-7, with a life limit of 40,000 landings (instead of 7,000 landings). The new flap bellcrank (P/N 2622311-7) may be substituted for the older flap bellcranks, either P/N 2622281-2, 2622281-12, or 2692001-2. Installation of this new flap bellcrank would eliminate the need for repetitive inspections.

Is there service information that applies to this subject? Cessna has issued the following service information:

—Cessna Caravan Service Bulletin No.: CAB02-1, dated February 11, 2002;

—Cessna Caravan Service Bulletin No.: CAB02-12, Revision 1, dated January 27, 2003; and

—Cessna Caravan Service Kit No.: SK208-148A, dated January 27, 2003.

What are the provisions of this service information? The service information includes procedures for:

—Inspecting, using eddy current methods, the inboard forward flap bellcrank for cracks; and

—Replacing bellcranks.

The FAA's Determination and an Explanation of the Provisions of This Proposed AD

What has FAA decided? After examining the circumstances and reviewing all available information related to the incidents described above, we have determined that:

—The unsafe condition referenced in this document exists or could develop on other Cessna Models 208 and 208B airplanes of the same type design;

—The installation of either the 7,000 landings or 40,000 landings life limit bellcranks addresses the unsafe condition;

—The actions specified in the previously-referenced service information should be accomplished on the affected airplanes; and

—AD action should be taken in order to correct this unsafe condition.

What would this proposed AD require? This proposed action would revise AD 2002-22-17 by proposing a new AD that would:

—Retain the requirements of AD 2002-22-17; and

—Provide the option of installing the 40,000 landings life limit bellcranks.

How does the revision to 14 CFR part 39 affect this proposed AD? On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

Cost Impact

How many airplanes would this proposed AD impact? We estimate that this proposed AD affects 1,300 airplanes in the U.S. registry.

What would be the cost impact of this proposed AD on owners/operators of the affected airplanes? We estimate the following costs to accomplish the proposed inspection:

Labor cost | Parts cost | Total cost per airplane | Total cost on U.S. operators
1 workhour × $60 per hour = $60 | No cost for parts | $60 | $60 × 1,300 = $78,000

We estimate the following costs to accomplish any necessary replacements using the same flap bellcrank (P/N 2622281-2, 2622281-12, 2692001-2, or FAA-approved equivalent P/N) that would be required based on the proposed inspection or the reduced life limits:

Labor cost | Parts cost | Total cost per airplane | Total cost on U.S. operators
3 workhours × $60 per hour = $180 | $1,793 | $180 + $1,793 = $1,973 | $1,973 × 1,300 = $2,564,900

We estimate the following costs to accomplish any necessary replacements using the name flap bellcrank (P/N 2622311-7 2692001-2, or FAA-approved equivalent P/N) that would be required based on the proposed inspection or the reduced life limits. We have no way of determining the number of airplanes that may need such replacement with the new flap bellcrank:

Labor cost | Parts cost | Total cost per airplane
3 workhours × $60 per hour = $180 | $1,845 | $180 + $1,845 = $2,025

What is the difference between the cost impact of this proposed AD and the cost impact of AD 2002-22-17? AD 2002-22-17 already established the life limit for the flap bellcrank (P/N 2622281-2, 2622281-12, 2692001-2, or FAA-approved equivalent P/N) on the affected airplanes. Therefore, the replacement is already required through that AD. The only difference in the cost impact upon the public of this proposed AD and AD 2002-22-17 is the additional $52 cost difference for the new flap bellcrank.

Regulatory Impact

Would this proposed AD impact various entities? The regulations proposed herein would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing Airworthiness Directive (AD) 2002-22-17, Amendment 39-12944 (67 FR 68508, November 12, 2002), and by adding a new AD to read as follows:

Cessna Aircraft Company: Docket No. 2002-CE-23-AD; Revises AD 2002-22-17, Amendment 39-*****.

(a) What airplanes are affected by this AD? This AD affects Models 208 and 208B airplanes, all serial numbers, that are certificated in any category.

(b) Who must comply with this AD? Anyone who wishes to operate any of the airplanes identified in paragraph (a) of this AD must comply with this AD.

(c) What problem does this AD address? The actions specified by this AD are intended to detect, correct, and prevent cracks in the bellcrank, which could result in failure of this part. Such failure could lead to damage to the flap system and surrounding structure and result in reduced or loss of control of the airplane.

(d) What actions must I accomplish to address this problem? To address this problem, you must accomplish the following:

Actions | Compliance | Procedures
(1) Repetitive Inspections: Inspect, using eddy current method, any inboard forward flap bellcrank (part number (P/N) 2622281-2, 2622281-12, 2692001-2, or FAA-approved equivalent (P/N) for cracks. | Initially inspect upon the accumulation of 4,000 landings on the bellcrank or within the next 250 landings after the effective date of this AD, whichever occurs later. Repetitively inspect thereafter at every 500 landings until 7,000 landings are accumulated at which time you must replace as required in paragraphs (d)(2) and (d)(3) of this AD. | In accordance with the Inspection Instructions of Cessna Caravan Service Bulletin No.: CAB02-1, dated February 11, 2002, and the applicable maintenance manual.
(2) Initial Replacement: Replace any inboard forward flap bellcrank (P/N 2622281-2, 2622281-12, 2692001-2, or FAA-approved equivalent P/N) with either: (i) the same flap bellcrank (P/N 2622281-2, 2622281-12, 2692001-2, or FAA-approved equivalent P/N); or (ii) a new flap bellcrank (P/N 2622311-7 or FAA-approved equivalent P/N). | Must be replaced prior to further flight if cracks are found. If cracks are not found, initially replace at whichever occurs later; upon the accumulation of 7,000 landings on the bellcrank or within the next 75 landings after the effective date of this AD. | For flap bellcrank (P/N 2622281-2, 2622281-12, 2692001-2, or FAA-approved equivalent P/N): In accordance with the Inspection Instructions of Cessna Caravan Service Bulletin No.: CAB02-1, dated February 11, 2002, and the applicable maintenance manual. For new flap bellcrank (P/N 2622311-7 or FAA-approved equivalent P/N): In accordance with the Accomplishment Instructions of Cessna Caravan Service Bulletin No.: CAB02-12, Revision 1, dated January 27, 2003, and the Accomplishment Instructions of Cessna Caravan Service Kit No.: SK208-148A, dated January 27, 2003.
(3) Life Limits (Repetitive Replacements): (i) The life limit for the inboard forward flap bellcranks (P/N 2622281-2, 2622281-12, 2692001-2, or FAA-approved equivalent P/N) is 7,000 landings. Repetitive inspections every 500 landings begin at 4,000 landings (see paragraph (d)(1) of this AD. (ii) The life limit for the inboard forward flap bellcranks (P/N 2622311-7 or FAA-approved equivalent P/N) is 40,000 landings. No repetitive inspections are required on these bellcranks. | Replace at the applicable referenced life limits. | Use the service information referenced in paragraph (d)(2) of this AD.

Note 1: Inboard forward flap bellcranks (P/N 2622281-2, 2622281-12, or 2692001-2) with 7,000 landings or more do not have to be replaced until 75 landings after the effective date of this AD.

Note 2: The compliance times of this AD are presented in landings instead of hours TIS. If the number of landings is unknown, hours time-in-service (TIS) may be used by multiplying the number of hours TIS by 1.25.

(e) Can I comply with this AD in any other way?

(1) To use an alternative method of compliance or adjust the compliance time, follow the procedures in 14 CFR 39.19. Send these requests to the Manager, Wichita Aircraft Certification Office (ACO). For information on any already approved alternative methods of compliance, contact Paul Nguyen, Aerospace Engineer, FAA, Wichita ACO, 1801 Airport Road, Room 100, Wichita, Kansas 67209; telephone: 316-946-4125; facsimile: 816-946-4407.

(2) Alternative methods of compliance approved in accordance with AD 2002-22-17, which is revised by this AD, are not approved as alternative methods of compliance with this AD.

(f) How do I get copies of the documents referenced in this AD? You may get copies of the documents referenced in this AD from Cessna Aircraft Company, Product Support, P.O. Box 7706, Wichita, Kansas 67277; telephone: (316) 517-5800; facsimile: (316) 942-9006. You may view these documents at FAA, Central Region, Office of the Regional Counsel, 901 Locust, Room 506, Kansas City, Missouri 64106.

(g) Does this AD action affect any existing AD actions? This amendment revises AD 2002-22-17, Amendment 39-12944.

Issued in Kansas City, Missouri, on July 21, 2003.
Michael Gallagher,
Manager, Small Airplane Directorate, Aircraft Certification Service.

[FR Doc. 03-19059 Filed 7-25-03; 8:45 am]

BILLING CODE 4910-13-P